DEPARTMENT OF COMMERCE

Patent and Trademark Office

[Docket No. PTO-T-2012-0029]

Extension of Comment Period for Notice of Inquiry Regarding Adjustment of Fees for Trademark Applications

AGENCY: United States Patent and Trademark Office, Commerce.

ACTION: Notice of extension of public comment period.

SUMMARY: The United States Patent and Trademark Office (“USPTO” or “Office”) is extending until October 22, 2012, the period for public comment regarding possible adjustments to trademark application filing fees. The USPTO is considering such adjustments so as to promote efficiency for the USPTO and customers by incentivizing complete electronic communication.

DATES: Written comments must be received on or before October 22, 2012.

ADDRESSES: The USPTO prefers that comments be submitted via electronic mail message to TMFRNotices@uspto.gov. Written comments may also be submitted by mail to Commissioner for Trademarks, P.O. Box 1451, Alexandria, VA 22313-1451, attention Cynthia C. Lynch; by hand delivery to the Trademark Assistance Center, Concourse Level, James Madison Building-East Wing, 600 Dulany Street, Alexandria, Virginia, attention Cynthia C. Lynch; or by electronic mail message via the Federal eRulemaking Portal. See the Federal eRulemaking Portal Web site (http://www.regulations.gov) for additional instructions on providing comments via the Federal eRulemaking Portal. All comments submitted directly to the Office or provided on the Federal eRulemaking Portal should include the docket number (PTO-T-2012-0029). The comments will be available for public inspection on the USPTO's Web site at http://www.uspto.gov, and will also be available at the Office of the Commissioner for Trademarks, Madison East, Tenth Floor, 600 Dulany Street, Alexandria, Virginia. Because comments will be made available for public inspection, information that is not desired to be made public, such as an address or phone number, should not be included.

FOR FURTHER INFORMATION CONTACT: Cynthia C. Lynch, Office of the Deputy Commissioner for Trademark Examination Policy, at (571) 272-8742.

SUPPLEMENTARY INFORMATION: On August 16, 2012, the USPTO published a notice of inquiry to provide the public, including user groups, with an opportunity to comment on possible adjustments to trademark application fees (77 FR 49426 (August 16, 2012)). The notice invited the public to submit written comments on the possible adjustments on or before October 15, 2012. The USPTO is now extending the period for submission of public comments until October 22, 2012.

Dated: September 13, 2012.
David J. Kappos,
Under Secretary of Commerce for Intellectual Property and Director of the United States Patent and Trademark Office.

[FR Doc. 2012-23135 Filed 9-18-12; 8:45 am]

BILLING CODE 3510-16-P